DEPARTMENT OF DEFENSE

Department of the Army, Army Corps of Engineers

Notice of Intent To Prepare a Draft Environmental Impact Statement for the Proposed Centennial Reservoir Project, Nevada and Placer Counties, CA, Corps Permit Application Number SPK-2016-00030

AGENCY: Department of the Army, U.S. Army Corps of Engineers, DoD.

ACTION: Notice of intent.

SUMMARY: The U.S. Army Corps of Engineers (Corps), Sacramento District, as the lead Federal agency under the National Environmental Policy Act (NEPA) will prepare an Environmental Impact Statement (EIS) for the proposed Centennial Reservoir Project (Proposed Action). On April 25, 2016, the Nevada Irrigation District (NID) (applicant) submitted a Department of the Army (DA) permit application under Section 404 of the Clean Water Act, to discharge dredged and/or fill material into waters of the United States (WOUS) for the construction of a new 110,000 acre-foot water supply reservoir. The Proposed Action is located on the Bear River, downstream of Rollins Reservoir and upstream of Combie Reservoir, west of the Town of Colfax, Nevada and Placer Counties, California. NID's stated purpose for the Proposed Action is to provide drought and climate change-mitigation, meet projected future water supply needs, and improve water supply reliability for NID's customers.

DATES: Interested parties are invited to submit written comments on or before April 10, 2017. Written comments can be submitted at any time prior to publication of the Draft EIS.

ADDRESSES: Submit comments by email at CESPKCentennialReser@usace.army.mil, or by mail at 1325 J Street, Room 1350, Sacramento, CA 95814-2922.

FOR FURTHER INFORMATION CONTACT: Ms. Kara Hellige by telephone at 970-259-1604, or email at CESPKCentennialReser@usace.army.mil.

SUPPLEMENTARY INFORMATION: Two public scoping meetings will be held to present an overview of the Proposed Action and the Draft EIS process, and to afford all interested parties with an opportunity to provide comments. The first meeting will be held on March 1, 2017, from 4:30 p.m. to 7:00 p.m. at the Holiday Inn Auburn Hotel, 120 Grass Valley Highway, Auburn, CA 95603. The second public scoping meeting will be held on March 2, 2017, from 4:30 p.m. to 7:00 p.m. at Gold Miners Inn/Holiday Inn Express & Suites, 121 Bank Street, Grass Valley, CA 95945. Project information will also be posted periodically on the internet at http://www.spk.usace.army.mil/Missions/Regulatory/Permitting/Environmental-Impact-Statements/. Parties interested in being added to the Corps' electronic mail notification list for the Proposed Action can obtain a request form at http://www.spk.usace.army.mil/Media/Regulatory-Public-Notices/. Please refer to Department of the Army number SPK-2016-00030 in any correspondence.

The proposed Centennial Reservoir project involves the construction of a new 110,000 acre-foot reservoir on the Bear River between the existing Rollins and Combie Reservoirs. The Proposed Action would extend upriver from just above the existing Combie Reservoir for slightly over six miles to a point west of the Town of Colfax, approximately two miles downstream of the existing Rollins Dam. The Proposed Action would include construction of a new dam and associated facilities and infrastructure. The anticipated water depth at the dam would be approximately 255 feet and the height of the dam would be approximately 275 feet. NID anticipates that low impact public recreational opportunities (e.g., 5 mile per hour maximum speed on the reservoir, pedestrian trails, swimming, and kayaking) would also be included with the Proposed Action. Approximately 2,200 acres of land would be affected through inundation and construction activities related to the project, which includes over 6 miles of river channel. The Proposed Action would permanently impact approximately 0.97 acre of WOUS for the construction of the dam and would permanently inundate approximately 190 acres of WOUS. Temporary impacts associated with the project have not yet been determined. Additional indirect impacts to WOUS may occur as a result of the Proposed Action. The Proposed Action will also require rerouting of Dog Bar Road along with other smaller roadways to maintain traffic flow within and between Nevada and Placer Counties. The Corps, as the lead agency responsible for compliance with NEPA, determined that the Proposed Action may result in significant direct, indirect, and cumulative impacts to the environment and that the preparation of an EIS is required. The Corps identified six Federal, state, and local agencies that may have jurisdiction by law over the Proposed Action and on June 10, 2016, invited these agencies as cooperating agencies on the EIS per 40 CFR 1501.6. To date, the US Environmental Protection Agency and the Bureau of Land Management have agreed to be cooperating agencies.

The Draft EIS will include alternatives to the Proposed Action that will meet NEPA requirements for a reasonable range of alternatives, and will also meet the requirements of the CWA Section 404(b)(1) Guidelines. A number of water supply operation alternatives, as well as alternative dam sites and types have been/are being considered. Additional alternatives include but may not be limited to: (1) Alternative storage sites within NID's service area (including expansion of existing storage reservoirs); and (2) water supply operations alternatives to improve the efficiency of existing water supply and conveyance infrastructure which may include but are not be limited to lining of existing water supply canals and rehabilitating aged infrastructure. The specific alternatives to be evaluated within the Draft EIS have not yet been developed, but will, at a minimum, include the No Action Alternative and the Proposed Action Alternative.

The Corps' public involvement program includes several opportunities to provide verbal and written comments on the Proposed Action through the EIS process. Affected federal, state, and local agencies, Native American tribes, other interested private organizations and parties, and the general public are invited to participate. Potentially significant issues to be analyzed in depth in the Draft EIS include the loss of WOUS (including wetlands) and impacts related to: Aesthetics, air quality, agriculture and forestry resources, terrestrial and aquatic biological resources, cultural resources, environmental justice, geology and soils, greenhouse gas emissions, hazards and hazardous materials, hydrology and water quality, land use and planning, noise, public services, recreation, socioeconomics, transportation and traffic, and utilities and service systems. The EIS will also evaluate the cumulative and indirect effects of the Proposed Action, other developed alternatives, and other related projects in the study area.

The Corps will consult with the U.S. Fish and Wildlife Service and National Marine Fisheries Service under Section 7 of the Endangered Species Act for proposed impacts to listed species. The Corps will also consult with Native American tribes and with the State Historic Preservation Officer to comply with the National Historic Preservation Act for proposed impacts to properties listed or potentially eligible for listing on the National Register of Historic Places, as appropriate.

A 45-day public review period will be provided for interested parties, individuals, and agencies to review and comment on the draft EIS. All interested parties are encouraged to respond to this notice and provide a current address if they wish to be notified of the draft EIS circulation.

The Draft EIS is expected to be available for public review and comment by January 2018.

Dated: January 31, 2017.
Michael S. Jewell,
Chief, Regulatory Division.

[FR Doc. 2017-02779 Filed 2-9-17; 8:45 am]

BILLING CODE 3720-58-P